EXPORT-IMPORT BANK

[Public Notice 2012-0523]

Agency Information Collection Activities: Comment Request

AGENCY: Export-Import Bank of the United States.

ACTION: Submission for OMB Review and comments request.

Form Title: EIB 92-64 Application for Exporter Short Term Single Buyer Insurance.

SUMMARY: The Export-Import Bank of the United States (Ex-Im Bank), as a part of its continuing effort to reduce paperwork and respondent burden, invites the general public and other Federal Agencies to comment on the proposed information collection, as required by the Paperwork Reduction Act of 1995.

The “Application for Exporter Short Term Single Buyer Insurance” form will be used by entities involved in the export of US goods and services, to provide Ex-Im Bank with the information necessary to obtain legislatively required assurance of repayment and fulfills other statutory requirements.

The application can be reviewed at: www.exim.gov/pub/pending/EIB92-64.pdf. Application for Exporter Short Term Single Buyer Insurance.

DATES: Comments should be received on or before October 31, 2012 to be assured of consideration.

ADRESSES: Comments maybe submitted electronically on WWW.REGULATIONS.GOV or by mail to Office of Information and Regulatory Affairs, 725 17th Street NW., Washington, DC 20038 Attn: OMB 3048-0018.

SUPPLEMENTARY INFORMATION: Titles and Form Number: EIB 92-64. Application for Exporter Short Term Single Buyer Insurance.

OMB Number: 3048-0018.

Type of Review: Regular.

Need and Use: The information requested enables the applicant to provide Ex-Im Bank with the information necessary to obtain legislatively required assurance of repayment and fulfills other statutory requirements.

Annual Number of Respondents: 310.

Estimated Time per Respondent: 1.5 hours.

Government Annual Burden Hours: 465 hours.

Frequency of Reporting or Use: As needed.

Government Review Time: 6 hours.

Total Hours: 1,860.

Cost to the Government: $72,020.

Sharon A. Whitt,
Agency Clearance Officer.

[FR Doc. 2012-24053 Filed 9-28-12; 8:45 am]

BILLING CODE 6690-01-P